U.S.-CHINA ECONOMIC AND SECURITY REVIEW COMMISSION

Notice of Open Public Hearing

AGENCY: U.S.-China Economic and Security Review Commission.

ACTION: Notice of Official Public Release of the Commission's 2014 Annual Report to Congress on November 20, 2014, Washington, DC.

SUMMARY: Notice is hereby given of the following public hearing of the U.S.-China Economic and Security Review Commission.

Name: Dennis C. Shea, Chairman of the U.S.-China Economic and Security Review Commission. The Commission is mandated by Congress to investigate, assess, and report to Congress annually on “the national security implications of the economic relationship between the United States and the People's Republic of China.” Pursuant to this mandate, the Commission will hold an official public release of the Commission's 2014 Annual Report to Congress on November 20, 2014.

Purpose of Meeting: Pursuant to this mandate, the Commission will hold an official public conference in Washington, DC to release the 2014 Annual Report on November 20, 2014.

The Commission is subject to the Federal Advisory Committee Act (FACA) with the enactment of the Science, State, Justice, Commerce and Related Agencies Appropriations Act, 2006 that was signed into law on November 22, 2005 (Pub. L. 109-108). In accord with FACA, meetings of the Commission to make decisions concerning the substance and recommendations of its 2014 Annual Report to Congress are open to the public.

Topics Addressed

The Commission's 2014 Annual Report contains the following chapters and sections:

Chapter 1: U.S.-China Economic and Trade Relations

Section 1: Year in Review: Economics and Trade

Section 2: U.S.-China Bilateral Trade and Economic Challenges

Section 3: China's Health Care Industry, Drug Safety, and Market Access for U.S. Medical Goods and Services

Section 4: U.S.-China Clean Energy Cooperation

Chapter 2: Military and Security Issues Involving China

Section 1: Year in Review: Security and Foreign Affairs

Section 2: China's Military Modernization

Section 3: China's Domestic Stability

Chapter 3: China and the World

Section 1: China and Asia's Evolving Security Architecture

Section 2: Recent Developments in China's Relationship with North Korea

Section 3: Taiwan

Section 4: Hong Kong

Location, Date and Time: Rayburn House Office Building, Room 2118. Thursday, November 20, 2014, 9:30 a.m. Eastern Time. Please check our Web site, www.uscc.gov, for possible changes to public meeting. Reservations are not required to attend the hearing.

FOR FURTHER INFORMATION CONTACT: Any member of the public seeking further information concerning the hearing should contact Reed Eckhold, 444 North Capitol Street NW., Suite 602, Washington, DC 20001; phone: 202-624-1496, or via email at reckhold@uscc.gov. Reservations are not required to attend the hearing.

Authority: Congress created the U.S.-China Economic and Security Review Commission in 2000 in the National Defense Authorization Act (Public Law 106-398), as amended by Division P of the Consolidated Appropriations Resolution, 2003 (Pub. L. 108-7), as amended by Public Law 109-108 (November 22, 2005).

Dated: November 7, 2014.
Michael Danis,
Executive Director, U.S.-China Economic and Security Review Commission.

[FR Doc. 2014-26892 Filed 11-12-14; 8:45 am]

BILLING CODE 1137-00-P